DEPARTMENT OF TRANSPORTATION

Federal Aviation Administration

14 CFR Part 39

[Docket No. 99-NM-251-AD; Amendment 39-11742; AD 2000-10-18]

RIN 2120-AA64

Airworthiness Directives; Airbus Industrie Model A300, A300-600, and A310 Series Airplanes

AGENCY: Federal Aviation Administration, DOT.

ACTION: Final rule.

SUMMARY: This amendment supersedes an existing airworthiness directive (AD), applicable to certain Airbus Industrie Model A300, A300-600, and A310 series airplanes, that currently requires inspections to detect cracks in the lower spar axis of the pylons between ribs 6 and 7, and repair, if necessary. For certain Model A310 series airplanes, this amendment reduces the currently required inspection thresholds and intervals, and removes an option for a terminating modification. This amendment is prompted by issuance of mandatory continuing airworthiness information by a foreign civil airworthiness authority. The actions specified by this AD are intended to prevent such fatigue cracking, which could result in reduced structural integrity of the engine pylon's lower spar, and possible separation of the engine from the airplane.

DATES: Effective June 30, 2000.

The incorporation by reference of certain publications listed in the regulations is approved by the Director of the Federal Register as of June 30, 2000.

The incorporation by reference of certain other publications, as listed in the regulations, was approved previously by the Director of the Federal Register as of June 28, 1996 (61 FR 26091, May 24, 1996).

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding AD 96-11-05, amendment 39-9630 (61 FR 26091, May 24, 1996), which is applicable to certain Airbus Industrie Model A300, A300-600, and A310 series airplanes, was published in the Federal Register on February 14, 2000 (65 FR 7316). The action proposed to continue to require inspections to detect cracks in the lower spar axis of the engine pylons for Airbus Model A300 and A300-600 series airplanes, and to require accomplishment of the actions specified in Airbus Service Bulletin A310-54-2017, Revision 03, for Model A310 series airplanes.

Comments Received

Interested persons have been afforded an opportunity to participate in the making of this amendment. Due consideration has been given to the comments received.

No Objection to the Proposal

One commenter, an operator, states that it is not affected by the proposed AD, and therefore has no objection or additional comments.

Reference to French Airworthiness Directive

One commenter, the manufacturer, requests that the proposed AD be revised to include a reference to a related French airworthiness directive. The commenter states that the proposed AD refers to French airworthiness directive 1999-239-287(B), which addresses Airbus Model A310 series airplanes, but does not mention 1993-228-154(B)R3, which addresses Airbus Model A300 and A300-600 series airplanes (actions for those airplanes are required in existing FAA AD 96-11-05).

The FAA acknowledges that the actions required by existing FAA AD 96-11-05 are related to French airworthiness directive 1993-228-154(B). The FAA has no objection to including the reference in this AD, which continues to require those actions for Model A300 and A300-600 series airplanes. “NOTE 3” of the AD has been revised accordingly. However, although the FAA generally references the latest pertinent airworthiness directive issued by another airworthiness authority as an informational Note in the AD, this information is not intended to be an exhaustive list of all related mandatory continuing airworthiness information, and should not be considered as such.

Conclusion

After careful review of the available data, including the comments noted above, the FAA has determined that air safety and the public interest require the adoption of the rule with the change previously described. The FAA has determined that this change will neither increase the economic burden on any operator nor increase the scope of the AD.

Cost Impact

There are approximately 146 airplanes of U.S. registry that will be affected by this AD.

The requirements of this AD will not add any new additional economic burden on affected operators, other than the costs that are associated with accomplishing inspections for certain airplanes at an earlier time than would have been required by AD 96-11-05. The current costs associated with this AD are reiterated (as follows) for the convenience of affected operators.

The inspections that are currently required by AD 96-11-05, and retained in this AD, take approximately 8 work hours per airplane to accomplish, at an average labor rate of $60 per work hour. Based on these figures, the cost impact of the currently required actions on U.S. operators is estimated to be $480 per airplane, per inspection cycle.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-9630 (61 FR 26091, May 24, 1996), and by adding a new airworthiness directive (AD), amendment 39-11742, to read as follows:

2000-10-18 Airbus Industrie: Amendment 39-11742. Docket 99-NM-251-AD. Supersedes AD 96-11-05, Amendment 39-9630.

Applicability: The following models, certificated in any category: Model A300 and A300-600 series airplanes, as listed in Airbus Service Bulletins A300-54-0073 and A300-54-6014, both Revision 1, dated March 28, 1994; and Model A310 series airplanes, except those on which Airbus Modification 10149 has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (m)(1) of this AD. The request should include an assessment of the effect of the modification, alteration, or repair on the unsafe condition addressed by this AD; and, if the unsafe condition has not been eliminated, the request should include specific proposed actions to address it.

Compliance: Required as indicated, unless accomplished previously. To prevent fatigue cracking, which could result in reduced structural integrity of the engine pylon's lower spar and possible separation of the engine from the airplane, accomplish the following:

Restatement of Certain Requirements of AD 96-11-05

Eddy Current Inspections

(a) For Model A300 series airplanes equipped with General Electric CF6-50C engines, and having pylons that have not been modified in accordance with Airbus Industrie Service Bulletin A300-54-0080, Revision 1, dated January 16, 1995: Prior to the accumulation of 10,900 total landings, or within 500 landings after June 28, 1996 (the effective date of AD 96-11-05, amendment 39-9630), whichever occurs later, perform an internal eddy current inspection to detect cracks in the lower spar axis of the pylons between ribs 6 and 7, in accordance with Airbus Industrie Service Bulletin A300-54-0073, Revision 1, dated March 28, 1994.

(1) If no crack is found, repeat the inspection thereafter at intervals not to exceed 6,700 landings.

(2) If any crack is found that is less than 35 millimeters ( 1.38 inches), prior to further flight, stop-drill the crack in accordance with the procedures specified in Section 51-41-10 of the Structural Repair Manual (SRM). Thereafter, prior to the accumulation of 250 landings after crack discovery, repair in accordance with the service bulletin. Prior to the accumulation of 17,900 landings after accomplishing the repair, perform an eddy current inspection to detect cracks at the stiffener ends, ribs 6 and 7, at the edge of the holes made during the repair and on the fasteners located at the edge of the doubler, in accordance with the service bulletin.

(i) If no crack is found, repeat the inspection required by paragraph (a)(2) of this AD thereafter at intervals not to exceed 15,000 landings.

(ii) If any crack is found, prior to further flight, repair in accordance with a method approved by the Manager, International Branch, ANM-116, FAA, Transport Airplane Directorate; or the Direction Générale de l'Aviation Civile (DGAC) (or its delegated agent).

(3) If any crack is found that is greater than or equal to 35 mm (1.38 in.), prior to further flight, repair in accordance with a method approved by the Manager, International Branch, ANM-116; or the DGAC (or its delegated agent).

(b) For Model A300 series airplanes equipped with General Electric CF6-50C engines, and having pylons that have been modified in accordance with Airbus Industrie Service Bulletin A300-54-0080, Revision 1, dated January 16, 1995: Prior to the accumulation of 30,300 landings since installation of the modification, or within 500 landings after June 28, 1996, whichever occurs later, perform an eddy current inspection to detect cracks in the lower spar axis of the pylons between ribs 6 and 7, in accordance with Airbus Industrie Service Bulletin A300-54-0073, Revision 1, dated March 28, 1994.

(1) If no crack is found, repeat the eddy current inspection thereafter at intervals not to exceed 21,300 landings.

(2) If any crack is found, prior to further flight, repair in accordance with a method approved by the Manager, International Branch, ANM-116; or the DGAC (or its delegated agent).

(c) For Model A300 series airplanes equipped with Pratt & Whitney JT9D-59A engines, and having pylons that have not been modified in accordance with Airbus Industrie Service Bulletin A300-54-0080, Revision 1, dated January 16, 1995: Prior to the accumulation of 8,600 total landings, or within 500 landings after June 28, 1996, whichever occurs later, perform an internal eddy current inspection to detect cracks in the lower spar axis of the pylons between ribs 6 and 7, in accordance with Airbus Industrie Service Bulletin A300-54-0073, Revision 1, dated March 28, 1994.

(1) If no crack is found, repeat the inspection thereafter at intervals not to exceed 5,700 landings.

(2) If any crack is found that is less than 35 mm (1.38 in.), prior to further flight, stop-drill the crack in accordance with the procedures specified in Section 51-41-10 of the SRM. Thereafter, prior to the accumulation of 250 landings after crack discovery, repair in accordance with the service bulletin. Prior to the accumulation of 14,200 landings after accomplishing the repair, perform an eddy current inspection to detect cracks at the stiffener ends, ribs 6 and 7, at the edge of the holes made during the repair and on the fasteners located at the edge of the doubler, in accordance with the service bulletin.

(i) If no crack is found, repeat the inspection required by paragraph (c)(2) of this AD thereafter at intervals not to exceed 12,800 landings.

(ii) If any crack is found, prior to further flight, repair in accordance with a method approved by the Manager, International Branch, ANM-116; or by the DGAC (or its delegated agent).

(3) If any crack is found that is greater than or equal to 35 mm (1.38 in.), prior to further flight, repair in accordance with a method approved by the Manager, International Branch, ANM-116; or the DGAC (or its delegated agent).

(d) For Model A300 series airplanes equipped with Pratt & Whitney JT9D-59A engines, and having pylons that have been modified in accordance with Airbus Industrie Service Bulletin A300-54-0080, Revision 1, dated January 16, 1995: Prior to the accumulation of 24,000 landings since installation of the modification, or within 500 landings after June 28, 1996, whichever occurs later, perform an eddy current inspection to detect cracks in the lower spar axis of the pylons between ribs 6 and 7, in accordance with Airbus Industrie Service Bulletin A300-54-0073, Revision 1, dated March 28, 1994.

(1) If no crack is found, repeat the eddy current inspection thereafter at intervals not to exceed 18,200 landings.

(2) If any crack is found, prior to further flight, repair in accordance with a method approved by the Manager, International Branch, ANM-116; or the DGAC (or its delegated agent).

(e) For Model A300-600 series airplanes equipped with General Electric CF6-80C2 engines, and having pylons that have not been modified in accordance with Airbus Industrie Service Bulletin A300-54-6020, dated February 22, 1994: Prior to the accumulation of 9,400 total landings, or within 500 landings after June 28, 1996, whichever occurs later, perform an internal eddy current inspection to detect cracks in the lower spar axis of the pylons between ribs 6 and 7, in accordance with Airbus Industrie Service Bulletin A300-54-6014, Revision 1, dated March 28, 1994.

(1) If no crack is found, repeat the inspection thereafter at intervals not to exceed 6,100 landings.

(2) If any crack is found that is less than or equal to 35 mm (1.38 in.), prior to further flight, stop-drill the crack in accordance with the procedures specified in Section 51-41-10 of the SRM. Thereafter, prior to the accumulation of 250 landings after crack discovery, repair in accordance with the service bulletin. Prior to the accumulation of 15,600 landings after accomplishing the repair, perform an eddy current inspection to detect cracks at the stiffener ends, ribs 6 and 7, at the edge of the holes made during the repair and on the fasteners located at the edge of the doubler, in accordance with the service bulletin.

(i) If no crack is found, repeat the inspection required by paragraph (e)(2) of this AD thereafter at intervals not to exceed 13,600 landings.

(ii) If any crack is found, prior to further flight, repair in accordance with a method approved by the Manager, International Branch, ANM-116; or the DGAC (or its delegated agent).

(3) If any crack is found that is greater than or equal to 35 mm (1.38 in.), prior to further flight, repair in accordance with a method approved by the Manager, International Branch, ANM-116; or the DGAC (or its delegated agent).

(f) For Model A300-600 series airplanes equipped with General Electric CF6-80C2 engines, and having pylons that have been modified in accordance with Airbus Industrie Service Bulletin A300-54-6020, dated February 22, 1994: Prior to the accumulation of 26,400 landings since installation of the modification, or within 500 landings after June 28, 1996, whichever occurs later, perform an eddy current inspection to detect cracks in the lower spar axis of the pylons between ribs 6 and 7, in accordance with Airbus Industrie Service Bulletin A300-54-6014, Revision 1, dated March 28, 1994.

(1) If no crack is found, repeat the eddy current inspection thereafter at intervals not to exceed 19,400 landings.

(2) If any crack is found, prior to further flight, repair in accordance with a method approved by the Manager, International Branch, ANM-116; or the DGAC (or its delegated agent).

(g) For Model A300-600 series airplanes equipped with Pratt & Whitney JT9D-7R4 or PW 4000 engines, and having pylons that have not been modified in accordance with Airbus Industrie Service Bulletin A300-54-6020, dated February 22, 1994: Prior to the accumulation of 5,700 total landings, or within 500 landings after June 28, 1996, whichever occurs later, perform an internal eddy current inspection to detect cracks in the lower spar axis of the pylons between ribs 6 and 7, in accordance with Airbus Industrie Service Bulletin A300-54-6014, Revision 1, dated March 28, 1994.

(1) If no crack is found, repeat the inspection thereafter at intervals not to exceed 4,400 landings.

(2) If any crack is found that is less than 35 mm (1.38 in.), prior to further flight, stop-drill the crack in accordance with the procedures specified in Section 51-41-10 of the SRM. Thereafter, prior to the accumulation of 250 landings after crack discovery, repair in accordance with the service bulletin. Prior to the accumulation of 10,100 landings after accomplishing the repair, perform an eddy current inspection to detect cracks at the stiffener ends, ribs 6 and 7, at the edge of the holes made during the repair and on the fasteners located at the edge of the doubler, in accordance with the service bulletin.

(i) If no crack is found, repeat the inspection required by paragraph (g)(2) of this AD thereafter at intervals not to exceed 10,000 landings.

(ii) If any crack is found, prior to further flight, repair in accordance with a method approved by the Manager, International Branch, ANM-116; or the DGAC (or its delegated agent).

(3) If any crack is found that is greater than or equal to 35 mm (1.38 in.), prior to further flight, repair in accordance with a method approved by the Manager, International Branch, ANM-116; or the DGAC (or its delegated agent).

(h) For Model A300-600 series airplanes equipped with Pratt & Whitney JT9D-7R4 or PW 4000 engines, and having pylons that have been modified in accordance with Airbus Industrie Service Bulletin A300-54-6020, dated February 22, 1994: Prior to the accumulation of 17,000 landings since installation of the modification, or within 500 landings after June 28, 1996, whichever occurs later, perform an eddy current inspection to detect cracks in the lower spar axis of the pylons between ribs 6 and 7, in accordance with Airbus Industrie Service Bulletin A300-54-6014, Revision 1, dated March 28, 1994.

(1) If no crack is found, repeat the eddy current inspection thereafter at intervals not to exceed 14,500 landings.

(2) If any crack is found, prior to further flight, repair in accordance with a method approved by the Manager, International Branch, ANM-116; or the DGAC (or its delegated agent).

New Requirements of This AD

New and Repetitive Inspections for Model A310 Series Airplanes

(i) For Model A310 series airplanes on which the modification specified in Airbus Service Bulletin A310-54-2023, dated October 15, 1993, has not been accomplished: Perform an eddy current inspection to detect cracks in the lower spar axis of the pylons between ribs 6 and 7, in accordance with Airbus Industrie Service Bulletin A310-54-2017, Revision 03, dated June 11, 1999, at the applicable time specified in paragraph (i)(1), (i)(2), or (i)(3) of this AD.

(1) For airplanes that have accumulated fewer than 10,000 total landings as of the effective date of this AD: Inspect prior to the accumulation of 7,000 total landings, or within 1,500 landings after the effective date of this AD, whichever occurs later.

(2) For airplanes that have accumulated 10,000 total landings or more and fewer than 20,000 total landings as of the effective date of this AD: Inspect within 1,000 landings after the effective date of this AD.

(3) For airplanes that have accumulated 20,000 total landings or more as of the effective date of this AD: Inspect within 500 landings after the effective date of this AD.

(j) If no crack is found during the inspection required by paragraph (i) of this AD, accomplish the actions specified by either paragraph (j)(1) or (j)(2) of this AD.

(1) Repeat the inspection thereafter at intervals not to exceed 6,400 landings. Or

(2) Prior to further flight, modify the lower spar between ribs 6 and 7 in accordance with Airbus Industrie Service Bulletin A310-54-2023, dated October 15, 1993, and thereafter accomplish the actions required by paragraph (l) of this AD.

(k) If any crack is found during any inspection required by paragraph (i) or (j) of this AD, accomplish the actions required by paragraph (k)(1) or (k)(2) of this AD, as applicable.

(1) If the crack is less than 35 mm (1.38 in.), prior to further flight, repair in accordance with Airbus Industrie Service Bulletin A310-54-2017, Revision 03, dated June 11, 1999. Thereafter, within 13,600 landings after accomplishing the repair, perform an eddy current inspection to detect cracks at the stiffener ends, ribs 6 and 7, at the edge of the holes made during the repair, and on the fasteners located at the end of the doubler, in accordance with the service bulletin.

(i) If no crack is found during the inspection required by paragraph (k)(1) of this AD, repeat the inspection required by paragraph (i) of this AD thereafter at intervals not to exceed 11,600 landings.

(ii) If any crack is found during the inspection required by paragraph (k)(1) of this AD, prior to further flight, repair in accordance with a method approved by the Manager, International Branch, ANM-116; or the DGAC (or its delegated agent).

(2) If the crack is equal to or greater than 35 mm (1.38 in.), prior to further flight, repair in accordance with a method approved by the Manager, International Branch, ANM-116; or the DGAC (or its delegated agent).

(l) For Model A310 series airplanes on which the modification specified in Airbus Industrie Service Bulletin A310-54-2023, dated October 15, 1993, has been accomplished: Within 23,000 landings after accomplishment of the modification, or within 90 days after the effective date of this AD, whichever occurs later, perform an eddy current inspection to detect cracks in the lower spar axis of the pylons between ribs 6 and 7, in accordance with Airbus Industrie Service Bulletin A310-54-2017, Revision 03, dated June 11, 1999.

(1) If no crack is found, repeat the inspection thereafter at intervals not to exceed 15,500 landings.

(2) If any crack is found during any inspection required by paragraph (l) or (l)(1) of this AD, prior to further flight, repair in accordance with a method approved by the Manager, International Branch, ANM-116; or the DGAC (or its delegated agent).

Alternative Methods of Compliance

(m)(1) An alternative method of compliance or adjustment of the compliance time that provides an acceptable level of safety may be used if approved by the Manager, International Branch, ANM-116. Operators shall submit their requests through an appropriate FAA Principal Maintenance Inspector, who may add comments and then send it to the Manager, International Branch, ANM-116.

(2) Alternate methods of compliance approved previously in accordance with AD 96-11-05, Amendment 39-9630, for paragraphs (a) through (h) of that AD, are approved as alternative methods of compliance with paragraphs (a) through (h) of this AD.

Note 2: Information concerning the existence of approved alternative methods of compliance with this AD, if any, may be obtained from the International Branch, ANM-116.

Special Flight Permits

(n) Special flight permits may be issued in accordance with sections 21.197 and 21.199 of the Federal Aviation Regulations (14 CFR 21.197 and 21.199) to operate the airplane to a location where the requirements of this AD can be accomplished.

Incorporation by Reference

(o) Except as required by paragraphs (a)(2), (a)(2)(ii), (a)(3), (b)(2), (c)(2), (c)(2)(ii), (c)(3), (d)(2), (e)(2), (e)(2)(ii), (e)(3), (f)(2), (g)(2), (g)(2)(ii), (g)(3), (h)(2), (k)(1)(ii), (k)(2), and (l)(2), the actions shall be done in accordance with the following Airbus service bulletins:

Airbus service bulletin No. | Revision level | Service bulletin date
A300-54-0073, | 1 | March 28, 1994.
A300-54-6014, | 1 | March 28, 1994.
A310-54-2017, | 03 | June 11, 1999.
A310-54-2023, | Original | October 15, 1993.

(1) The incorporation by reference of Airbus Service Bulletin A310-54-2017,

Revision 03, dated June 11, 1999, is approved by the Director of the Federal Register, in accordance with 5 U.S.C. 552(a) and 1 CFR part 51.

(2) The incorporation by reference of the remaining service bulletins was approved previously by the Director of the Federal Register as of June 28, 1996 (61 FR 26091, May 24, 1996).

(3) Copies may be obtained from Airbus Industrie, 1 Rond Point Maurice

Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directives 1999-239-287(B) and 1993-228-154(B)R3, both dated June 2, 1999.

(p) This amendment becomes effective on June 30, 2000.

Issued in Renton, Washington, on May 16, 2000.
Donald L. Riggin,
Acting Manager,Transport Airplane Directorate, Aircraft Certification Service.

[FR Doc. 00-12814 Filed 5-25-00; 8:45 am]

BILLING CODE 4910-13-U